DEPARTMENT OF TRANSPORTATION

Federal Aviation Administration

Approval of Noise Compatibility Program Update, Laredo International Airport (LRD), Laredo, Texas

AGENCY: Federal Aviation Administration, DOT.

ACTION: Notice.

SUMMARY: The Federal Aviation Administration (FAA) announces its findings on the Noise Compatibility Program (NCP) Update submitted by the Laredo International Airport (LRD) for the Laredo International Airport (the Airport or LRD). On August 25, 2022, the FAA determined that Noise Exposure Maps (NEMs) submitted by the Airport were in compliance with applicable requirements. The NCP Update was submitted to the FAA for review on March 14, 2025. After completing initial reviews, the FAA accepted the Noise Compatibility Program and initiated the review process on April 3, 2025. On July 28, 2025, the FAA approved the Laredo International Airport NCP Update. The NCP contains four land use measures and four administrative measures for which the Airport seeks approval under 14 CFR part 150. The FAA approved the eight measures.

DATES: The effective date of the FAA's approval of the Laredo International Airport NCP Update is July 28, 2025.

FOR FURTHER INFORMATION CONTACT: John MacFarlane, Federal Aviation Administration, FAA Southwest Region, Office of Airports (ASW-610), 10101 Hillwood Parkway, Fort Worth, TX, (817) 222-5681.

SUPPLEMENTARY INFORMATION: This notice announces the FAA's approval of the Noise Compatibility Program Update for the Laredo International Airport (the Airport), effective on July 28, 2025. Per United States Code section 49 U.S.C. 47504 and Title 14, Code of Federal Regulations (CFR) Part 150, an airport sponsor who previously submitted a noise exposure map (NEM) may submit to the FAA a noise compatibility program which sets forth the measures taken or proposed by the airport sponsor for the reduction of existing non-compatible land uses and prevention of additional non-compatible land uses within the area covered by the NEMs. As required by 49 U.S.C. 47504, such programs must be developed in consultation with interested and affected parties including local communities, government agencies, airport users, and the FAA. The FAA does not substitute its judgment for that of the airport sponsor with respect to which measures should be recommended for action. The FAA approval or disapproval of an airport sponsor's recommendations in its noise compatibility program are made in accordance with the requirements and standards pursuant to 49 U.S.C. 47504 and 14 CFR part 150, which is limited to the following determinations:

a. The noise compatibility program was developed in accordance with the provisions and procedures of 14 CFR 150.23;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations of the FAA's approval of NCPs are delineated in 14 CFR 150.5. Approval is not a determination concerning the acceptability of land uses under Federal, State, or local law. Approval does not by itself constitute an FAA implementing action. A request for Federal action or approval to implement specific noise compatibility measures may be required, and an FAA decision on the request may require an environmental review of the proposed action. Approval does not constitute commitment by the FAA to assist financially in the implementation of the noise compatibility program nor a determination that all measures covered by the NCP are eligible for grant-in-aid funding from the FAA. Where Federal funding is sought, requests must be submitted to the FAA Texas Airports District Office at 10101 Hillwood Parkway, Fort Worth, Texas 76177.

The Laredo International Airport submitted the noise exposure maps, descriptions, and other documentation produced during the noise compatibility planning study to the FAA, and the FAA determined that the NEMs for the Airport were in compliance with applicable requirements under 14 CFR part 150. The NEMs became effective August 25, 2022 (Noise Exposure Map Notice for Laredo International Airport, Laredo, Texas, 87, FR 55075 (September 8, 2022)). The Airport provided the FAA with the NCP, based on the accepted NEMs, on March 14, 2025. The Airport requested that the FAA review the submitted materials and that the land use and administrative measures to be implemented jointly by the airport and the City of Laredo, be approved as a NCP. The FAA initiated the formal review period, limited by law to a maximum of 180 days, on April 3, 2025 and published a Notice of Intent to review the NCP in the Federal Register on April 3, 2025 (Notice of receipt and request for review of noise compatibility program, 90 FR 14680 (April 3, 2025)). The Federal Register Notice also announced the start of the 60-day public review period for the NCP and its documentation. The FAA received no comments during the public review period.

The Airport requested that the FAA evaluate and approve this material as a noise compatibility program as described in 49 U.S.C. 47504. The FAA began its review of the program on April 3, 2025, and was required by a provision of 49 U.S.C. 47504 to approve or disapprove the program within 180 days. The FAA's failure to approve or disapprove such program within the 180-day period is deemed an approval of such program.

The submitted program contains eight proposed measures to address aviation noise and noncompatible land uses. The FAA completed its review and determined that the procedural and substantive requirements of 49 U.S.C. 47504 and 14 CFR part 150 were satisfied. A Record of Approval for the overall program was issued by the FAA effective July 28, 2025.

The specific program elements and their individual determinations are as follows:

Land Use Measure 1: Modify Overlay Zone—Approved.

Land Use Measure 2: Building Codes—Approved.

Land Use Measure 3: Sound Insulation and Eligibility—Approved.

Land Use Measure 4: Modify Noise Mitigation Program Area—Approved.

Administrative Measure 1: Noise Management Process—Approved.

Administrative Measure 2: Aircraft Operations and Flight Tracking System—Approved.

Administrative Measure 3: Update Noise Exposure Maps—Approved.

Administrative Measure 4: Update Noise Compatibility Program—Approved.

These determinations are set forth in detail in the Record of Approval signed by the FAA Deputy Division Director, Airports Division, Southwest Region on July 28, 2025. The Record of Approval, as well as other evaluation materials and the documents comprising the submittal, are available for review at the FAA office listed above. The Record of Approval is also available on the City of Laredo's website at https://flylaredotexas.com/business/development-plans-and-projects/.

Issued in Fort Worth, TX, on July 29, 2025.
D. Cameron Bryan,
Deputy Director, Airports Division, Southwest Regional Office.

[FR Doc. 2025-14482 Filed 7-30-25; 8:45 am]

BILLING CODE 4910-13-P